DEPARTMENT OF ENERGY

Federal Energy Regulatory Commission

Combined Notice of Filings #2

November 4, 2005.

Take notice that the Commission received the following electric rate filings.

Docket Numbers: ER06-21-000.

Applicants: Deseret Generation & Transmission Co-operative, Inc.

Description: Deseret Generation & Transmission Co-operative, Inc's proposed Wholesale Power Contract Rate Rebate as an amendment to the jurisdictional service agreement Nos. 1-6 etc, & requests waiver of 60-day notice requirements.

Filed Date: October 11, 2005.

Accession Number: 20051013-0075.

Comment Date: 5 p.m. Eastern Time on Monday, November 14, 2005.

Docket Numbers: ER06-94-000.

Applicants: ISO New England Inc.

Description: ISO New England, Inc submits revised tariff sheets of the ISO's transmission, markets and services tariff, in order to collect its administrative costs for calendar year 2006.

Filed Date: October 31, 2005.

Accession Number: 20051102-0283.

Comment Date: 5 p.m. Eastern Time on Monday, November 21, 2005.

Docket Numbers: ER06-95-000.

Applicants: Pacific Gas & Electric Company.

Description: Pacific Gas and Electric Co's submits Eleventh Quarterly Filing of Facilities Agreement, Revised Rate Schedule FERC No. 114.

Filed Date: October 31, 2005.

Accession Number: 20051103-0039.

Comment Date: 5 p.m. Eastern Time on Monday, November 21, 2005.

Docket Numbers: ER06-97-000.

Applicants: ISO New England Inc.

Description: ISO New England, Inc submits its 2006 Capital Budget Quarterly Filing for third Quarter of 2005 with supporting materials.

Filed Date: October 31, 2005.

Accession Number: 20051102-0292.

Comment Date: 5 p.m. Eastern Time on Monday, November 21, 2005.

Docket Numbers: ER06-109-000.

Applicants: Southwest Power Pool, Inc.

Description: Southwest Power Pool, Inc submits executed service agreement for long-term firm point-to-point transmission service w/Southwestern Public Service Co dba Xcel Energy Marketing as Transmission Customer.

Filed Date: October 31, 2005.

Accession Number: 20051103-0091.

Comment Date: 5 p.m. Eastern Time on Monday, November 21, 2005.

Docket Numbers: ER06-110-000; ER06-111-000.

Applicants: Mirant Delta, LLC; Mirant Potrero, LLC.

Description: Mirant Delta, LLC et al submits revisions to their Must-Run Service Agreements with California Independent System Operator Corp.

Filed Date: October 31, 2005.

Accession Number: 20051103-0092.

Comment Date: 5 p.m. Eastern Time on Monday, November 21, 2005.

Docket Numbers: ER06-112-000.

Applicants: Goose Haven Energy Center, LLC.

Description: Goose Haven Energy Center, LLC submits the revised rate schedule sheets for the Reliability Must-Run Service Agreement with California Independent System Operator Corp.

Filed Date: October 31, 2005.

Accession Number: 20051103-0093.

Comment Date: 5 p.m. Eastern Time on Monday, November 21, 2005.

Docket Numbers: ER06-113-000.

Applicants: Reliant Energy Etiwanda, Inc.

Description: Reliant Energy Etiwanda, Inc submits the revised pages for its FERC Electric Rate Schedule No. 2, Must-Run Service Agreement with California Independent System Operator Corp.

Filed Date: October 31, 2005.

Accession Number: 20051103-0094.

Comment Date: 5 p.m. Eastern Time on Monday, November 21, 2005.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other and the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Magalie R. Salas,
Secretary.

[FR Doc. E5-6181 Filed 11-9-05; 8:45 am]

BILLING CODE 6717-01-P